DEPARTMENT OF ENERGY

Federal Energy Regulatory Commission

[Docket No. CP05-58-000]

CenterPoint Energy Gas Transmission Company; Notice of Application

February 9, 2005.

Take notice that on January 26, 2005, CenterPoint Energy Gas Transmission Company (CenterPoint), 1111 Louisiana Street, Houston, Texas 77002-5231, filed in the above referenced docket pursuant to section 7(c) of the Natural Gas Act (NGA), for a certificate of public convenience to construct, own and operate three additional vertical injection and withdrawal wells and construct and operate approximately 21 miles of 24-inch diameter pipeline, and appurtenances located in Oklahoma to enhance its Chiles Dome Storage Facility (Chiles Dome) located in Coal County, Oklahoma. CenterPoint also seeks authorization to convert 3 Bcf of cushion gas capacity to working gas capacity and increase the maximum withdrawal volume to 309 MMcf/day, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions regarding this application should be directed to Lawrence O. Thomas, Director, Rates & Regulatory, CenterPoint Energy Gas Transmission Company, P.O. Box 21734, Shreveport, Louisiana 71151, or call (318) 429-2804.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken; but the filing of a comment alone will not serve to make the filer a party to the proceeding. The Commission's rules require that persons filing comments in opposition to the project provide copies of their protests only to the party or parties directly involved in the protest.

Protests and interventions may be filed electronically via the Internet in lieu of paper; see, 18 CFR 385.2001(a)(1)(iii) and the instructions on the Commission's web site under the “e-Filing” link. The Commission strongly encourages electronic filings.

Comment Date: March 2, 2005.

Linda Mitry,
Deputy Secretary.

[FR Doc. E5-622 Filed 2-14-05; 8:45 am]

BILLING CODE 6717-01-P